DEPARTMENT OF COMMERCE

Patent and Trademark Office

Agency Information Collection Activities; Submission to the Office of Management and Budget (OMB) for Review and Approval; Comment Request; Trademark Post Registration

The United States Patent and Trademark Office (USPTO) will submit the following information collection request to OMB for review and clearance in accordance with the Paperwork Reduction Act of 1995, on or after the date of publication of this notice. The USPTO invites comment on this information collection renewal, which helps the USPTO assess the impact of its information collection requirements and minimize the public's reporting burden. Public comments were previously requested via the Federal Register on May 12, 2021 during a 60-day comment period. This notice allows for an additional 30 days for public comments.

Agency: United States Patent and Trademark Office, Department of Commerce.

Title: Trademark Post Registration.

OMB Control Number: 0651-0055.

Forms Numbers:

• PTO Form 1563 (Declaration of Use of Mark in Commerce Under Section 8)

• PTO Form 1573 (Declaration of Incontestability of a Mark Under Section 15)

• PTO Form 1583 (Combined Declaration of Use and Incontestability Under Sections 8 and 15)

• PTO Form 1597 (Section 7 Request)

• PTO Form 1963 (Combined Declaration of Use of Mark in Commerce and Application for Renewal of Registration of a Mark Under Sections 8 and 9)

• PTO Form 2302 (Response to Office Action for Post-Registration Matters)

• PTO Form 2309 (Surrender of Registration for Cancellation)

• PTO Form 2310 (Request to Divide Registration)

• PTO Form 2311 (Section 12(c) Affidavit)

Type of Review: Extension and revision of a currently approved information collection.

Number of Respondents: 219,694 respondents per year.

Estimated Time per Response: The USPTO estimates that it takes the public approximately between 10 minutes (0.17 hours) and 45 minutes (0.75 hours), to complete the information in this information collection. This includes the time to gather the necessary information, prepare the appropriate documents, and submit the completed responses to the USPTO.

Estimated Total Annual Respondent Burden Hours: 113,620 hours.

Estimated Total Annual Non-Hour Cost Burden: $89,646,740.

Needs and Uses: The USPTO administers the Trademark Act, 15 U.S.C. 1051 et seq., which provides for the Federal registration of trademarks, service marks, collective trademarks and service marks, collective membership marks, and certification marks. Individuals and businesses that use or intend to use such marks in commerce may file an application to register their marks with the USPTO.

This information collection covers various communications submitted by individuals and businesses to the USPTO occurring after registration of a trademark. One type of communication is a request to amend a registration to delete goods or services that are no longer being used by the registrant or registration owner. Registered marks remain on the register for 10 years and can be renewed, but will be cancelled unless the registration owner files with the USPTO a declaration attesting to the continued use (or excusable non-use) of the mark in commerce, and a renewal application, within specific deadlines. Registration owners may also request to amend or divide a registration, respond to a post-registration Office action, and surrender a registration.

Affected Public: Private Sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0055.

Further information can be obtained by:

• Email: InformationCollection@uspto.gov. Include “0651-0055 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-23168 Filed 10-22-21; 8:45 am]

BILLING CODE 3510-16-P